DEPARTMENT OF ENERGY

Federal Energy Regulatory Commission

Combined Notice of Filings

Take notice that the Commission has received the following Natural Gas Pipeline Rate and Refund Report filings:

Filings Instituting Proceedings

Docket Numbers: RP15-1103-000.

Applicants: Natural Gas Pipeline Company of America.

Description: § 4(d) Rate Filing: Expired Agreements to be effective 8/1/2015.

Filed Date: 7/1/15.

Accession Number: 20150701-5004.

Comments Due: 5 p.m. ET 7/13/15.

Docket Numbers: RP15-1104-000.

Applicants: ANR Storage Company.

Description: § 4(d) Rate Filing: United Energy Trading Agmt to be effective 7/1/2015.

Filed Date: 7/1/15.

Accession Number: 20150701-5051.

Comments Due: 5 p.m. ET 7/13/15.

Docket Numbers: RP15-1105-000.

Applicants: WTG Hugoton, LP.

Description: Compliance filing Annual Fuel Retention Percentage Filing 2015-2016 to be effective 8/1/2015.

Filed Date: 7/1/15.

Accession Number: 20150701-5117.

Comments Due: 5 p.m. ET 7/13/15.

Docket Numbers: RP15-1106-000.

Applicants: Equitrans, L.P.

Description: § 4(d) Rate Filing: Negotiated Capacity Release Agreement—7/01/2015 to be effective 7/1/2015.

Filed Date: 7/1/15.

Accession Number: 20150701-5124.

Comments Due: 5 p.m. ET 7/13/15.

Docket Numbers: RP15-1107-000.

Applicants: Trailblazer Pipeline Company LLC.

Description: § 4(d) Rate Filing: 2015-07-01 Perm Rel of existing NRA (to Twin Eagle) to be effective 7/1/2015.

Filed Date: 7/1/15.

Accession Number: 20150701-5156.

Comments Due: 5 p.m. ET 7/13/15.

Docket Numbers: RP15-1108-000.

Applicants: Gulf South Pipeline Company, LP.

Description: § 4(d) Rate Filing: Remove Expired Agreements and References to be effective 7/1/2015.

Filed Date: 7/1/15.

Accession Number: 20150701-5181.

Comments Due: 5 p.m. ET 7/13/15.

Docket Numbers: RP15-1109-000.

Applicants: Gulf South Pipeline Company, LP.

Description: § 4(d) Rate Filing: Cap Rel Neg Rate Agmts (Atlanta 8438 to various eff 7/1/15) to be effective 7/1/2015.

Filed Date: 7/1/15.

Accession Number: 20150701-5182.

Comments Due: 5 p.m. ET 7/13/15.

Docket Numbers: RP15-1110-000.

Applicants: Dominion Transmission, Inc.

Description: Compliance filing DTI—2015 Overrun and Penalty Revenue Distribution to be effective N/A.

Filed Date: 7/1/15.

Accession Number: 20150701-5197.

Comments Due: 5 p.m. ET 7/13/15.

Docket Numbers: RP15-1111-000.

Applicants: Gulf South Pipeline Company, LP.

Description: § 4(d) Rate Filing: Amendment to Neg Rate Agmt (FPL 41618-13) to be effective 7/1/2015.

Filed Date: 7/1/15.

Accession Number: 20150701-5201.

Comments Due: 5 p.m. ET 7/13/15.

Docket Numbers: RP15-1112-000.

Applicants: Enable Gas Transmission, LLC.

Description: § 4(d) Rate Filing: Negotiated Rate Filing—July 2015 Removal of Expired Negotiated Rate Contracts to be effective 7/1/2015.

Filed Date: 7/1/15.

Accession Number: 20150701-5202.

Comments Due: 5 p.m. ET 7/13/15.

Docket Numbers: RP15-1113-000.

Applicants: MIGC LLC.

Description: § 4(d) Rate Filing: Annual Fuel Retention Percentage Tracker to be effective 8/1/2015.

Filed Date: 7/1/15.

Accession Number: 20150701-5251.

Comments Due: 5 p.m. ET 7/13/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 2, 2015.
Nathaniel J. Davis, Sr.,
Deputy Secretary.

[FR Doc. 2015-16887 Filed 7-9-15; 8:45 am]

BILLING CODE 6717-01-P